DEPARTMENT OF ENERGY

[Docket No. EA-225-A]

Application To Export Electric Energy; Split Rock Energy LLC

AGENCY: Office of Fossil Energy, DOE.

ACTION: Notice of application.

SUMMARY: Split Rock Energy, LLC (Split Rock) has applied for authority to transmit electric energy from the United States to Canada pursuant to section 202(e) of the Federal Power Act.

DATES: Comments, protests or requests to intervene must be submitted on or before April 21, 2003.

ADDRESSES: Comments, protests or requests to intervene should be addressed as follows: Office of Coal & Power Import/Export (FE-27), Office of Fossil Energy, U.S. Department of Energy, 1000 Independence Avenue, SW., Washington, DC 20585-0350 (FAX 202-287-5736).

FOR FURTHER INFORMATION CONTACT: Rosalind Carter (Program Office) 202-586-7983 or Michael Skinker (Program Attorney) 202-586-2793.

SUPPLEMENTARY INFORMATION: Exports of electricity from the United States to a foreign country are regulated and require authorization under section 202(e) of the Federal Power Act (FPA) (16 U.S.C. 824a(e)).

On August 15, 2000, the Office of Fossil Energy (FE) of the Department of Energy (DOE) issued Order No. EA-225 authorizing Split Rock to transmit electric energy from the United States to Canada as a power marketer using the international electric transmission facilities owned and operated by Basin Electric Power Cooperative, Bonneville Power Administration, Citizen Utilities, Eastern Maine Electric Cooperative, International Transmission Company (formally The Detroit Edison Company), Joint Owners of the Highgate Project, Long Sault, Inc., Maine Electric Power Company, Maine Public Service Company, Minnesota Power Inc., Minnkota Power Cooperative, New York Power Authority, Niagara Mohawk Power Corporation, Northern States Power, and Vermont Electric Transmission Company. That two-year authorization expired on August 15, 2002.

On February 3, 2003, DOE received an application from Split Rock to renew its authorization to transmit electric energy from the United States to Canada for a period of five (5) years.

Procedural Matters: Any person desiring to become a party to this proceeding or to be heard by filing comments or protests to this application should file a petition to intervene, comment or protest at the address provided above in accordance with §§ 385.211 or 385.214 of the Federal Energy Regulatory Commission's rules of practice and procedures (18 CFR 385.211, 385.214). Fifteen copies of each petition and protest should be filed with DOE on or before the date listed above.

Comments on the Split Rock application to export electric energy to Canada should be clearly marked with Docket EA-225-A. Additional copies are to be filed directly with Steven W. Tyacke, Esq., 30 West Superior Street, Duluth, MN 55802, (218) 723-3955.

DOE notes that the circumstances described in this application are virtually identical to those for which export authority had previously been granted in FE Order No. EA-225. Consequently, DOE believes that it has adequately satisfied its responsibilities under the National Environmental Policy Act of 1969 through the documentation of a categorical exclusion in the FE Docket EA-225 proceeding.

Copies of this application will be made available, upon request, for public inspection and copying at the address provided above or by accessing the FE home page at http://www.fe.de.gov. Upon reaching the FE home page, select “Electricity Regulation” and then “Pending Proceedings” from the options menus.

Issued in Washington, DC, on March 17, 2003.
Anthony J. Como,
Deputy Director, Electric Power Regulation, Office of Coal & Power Import/Export, Office of Coal & Power Systems, Office of Fossil Energy.

[FR Doc. 03-6787 Filed 3-20-03; 8:45 am]

BILLING CODE 6450-01-P